POSTAL SERVICE

Unused Label Refunds

AGENCY: Postal Service™.

ACTION: Notice.

SUMMARY: The Postal Service will implement two new options for mailers to submit refund requests for unused labels using an automated online process. A hyperlink will be located on the Electronic Verification System (eVS®) Monthly Account and Sampling Summary page where users can access a portal to submit unused label refunds.

DATES: These options shall be implemented August 1, 2018.

FOR FURTHER INFORMATION CONTACT: Direct questions to Jimmy A. Palma by email at jimmy.a.palma@usps.gov or by phone at (202) 268-8798.

SUPPLEMENTARY INFORMATION:

Background

Currently the Postal Service allows eVS mailers to submit a refund request for unused labels using a Type “4” Corrections Shipping Services File. Additionally, eVS mailers can submit refund requests for unused labels through the Dispute Queue accessible from the Business Customer Gateway. In this Notice, the Postal Service is announcing its plan to replace these methods with two new options for eVS mailers to submit refund requests for unused labels, using an automated online process. A hyperlink titled “Submit Refund Request for Unused Labels” will be added to the eVS Monthly Account and Sampling Summary page. This hyperlink provides access to the portal to use the two new options. The two options are as follows:

Option 1—PIC/EFN Submission (Text File Option)

A mailer can upload a text (.txt) file with multiple Package Identification Codes/Electronic File Numbers (PIC/EFNs). There is no limit to the number of PIC/EFNs submitted if using the text (.txt) upload option. Refer to appendix N in Postal Service Publication 205, Electronic Verification System (eVS®) Business and Technical Guide (https://postalpro.usps.com/node/3724) for guidance on using the online interface for uploading text files or using the entry box when requesting refunds for unused labels. All refund requests made through the online interface must be submitted within 60 days of the date of mailing. The system will validate if PIC/EFNs are formatted appropriately, and will create a dispute queue case number accessible through both the eVS landing page and the dispute queue. If PIC/EFNs fail format validation, an error message will be displayed for any of the following reasons: Invalid PIC length, duplicate EFN, commas in EFN, invalid EFN prefix, EFN submitted as a PIC, and/or invalid EFN length. If PIC/EFNs pass format validation, the system will reconcile the uploaded file to manifest data to verify payment activity, physical scan activity, timely submission, and uniqueness. As a result of the system evaluation, PIC/EFNs are approved or denied. Mailers can view the status and the results by accessing the Unused Label Refund Report in the Dispute Queue in PostalOne! ®. A refund will be issued within 20 days to the shipper's CAPS account for the approved PIC/EFNs. As is the current practice, the refund will be 90 percent of the labels' postage value unless a different percentage is authorized.

Option 2—PIC/EFN Submission (Entry Option)

A mailer can enter up to 200 PIC/EFNs in the online entry form in PostalOne!. Refer to appendix N in Postal Service Publication 205 (https://postalpro.usps.com/node/3724) for guidance on using the online interface for uploading text files or using the entry box when requesting refunds for unused labels. All refund requests made through the online interface must be submitted within 60 days of the date of mailing. The system will validate if PIC/EFNs are formatted appropriately, and will create a dispute queue case number, accessible through both the eVS landing page and the dispute queue. If PIC/EFNs fail format validation, an error message will be displayed for any of the following reasons: invalid PIC length, duplicate EFN, commas in EFN, invalid EFN prefix, EFN submitted as a PIC, and/or invalid EFN length. If PIC/EFNs pass format validation, the system will reconcile uploaded file to manifest data to verify payment activity, physical scan activity, timely submission, and uniqueness. As a result of the system evaluation, PIC/EFNs are approved or denied. Mailers can view the status and the results by accessing the Unused Label Refund Report in the Dispute Queue in PostalOne!. A refund will be issued within 20 days to the shipper's CAPS account for the approved PIC/EFNs. As is the current practice, the refund will be 90 percent of the labels' postage value unless a different percentage is authorized.

The addition of the above two automated options will provide a benefit to mailers by reducing the processing time of refund requests for unused labels while providing mailers better visibility into the status of refund cases. Once deployed, the two automated options will be the only method to submit unused label refund requests.

Maria W. Votsch,
Attorney, Corporate and Postal Business Law.

[FR Doc. 2018-15826 Filed 7-24-18; 8:45 am]

BILLING CODE 7710-12-P